DEPARTMENT OF ENERGY

Fusion Energy Public-Private Consortium Framework; Extension of Comment Period

AGENCY: Fusion Energy Sciences, Office of Science, Department of Energy.

ACTION: Request for information; extension of public comment period.

SUMMARY: On June 7, 2024, the U.S. Department of Energy (DOE) published a request for information (RFI) regarding input on a proposed fusion energy public-private consortium framework (PPCF). The RFI provided an opportunity for submitting written comments, data, and information by July 22, 2024. DOE has received a request to extend the public comment period for an additional 15 days. DOE has reviewed this request and is granting an extension of the public comment period to allow comments to be submitted until August 6, 2024.

DATES: The comment period for the RFI published on June 7, 2024 (89 FR 48605) is extended. DOE will accept comments, data, and information regarding the RFI on or before August 6, 2024.

ADDRESSES: Interested persons are encouraged to submit comments using the Federal eRulemaking Portal at www.regulations.gov.

FOR FURTHER INFORMATION CONTACT: Dr. Colleen Nehl, U.S. Department of Energy, Office of Fusion Energy Sciences, Office of Science, 1000 Independence Avenue SW, Washington, DC 20585, (301) 903-4920, email: ppcf@science.doe.gov.

SUPPLEMENTARY INFORMATION: On June 7, 2024, DOE published an RFI to invite interested parties to provide input on a proposed fusion energy public-private consortium framework (PPCF). The RFI set a comment period deadline of July 22, 2024. An interested party in the matter, the Fusion Industry Association (FIA), a non-profit organization composed of dozens private fusion companies and fusion affiliates, requested a 15-day extension of the public comment period to review and comment on the RFI given the substantial overlap in the timeline for a current fusion funding opportunity announcement, and the significant impact of a fusion consortium. DOE believes that additional time is warranted and is extending the comment period for 15 additional days, as requested. Therefore, comments on this RFI will be accepted until August 6, 2024.

Signing Authority

This document of the Department of Energy was signed on July 10, 2024, by Harriet Kung, Acting Director, Office of Science, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on July 11, 2024.
Treena V. Garrett,
Federal Register Liaison Officer, U.S. Department of Energy.

[FR Doc. 2024-15591 Filed 7-15-24; 8:45 am]

BILLING CODE 6450-01-P